DEPARTMENT OF ENERGY

Federal Energy Regulatory Commission

[Project No. 13129-000; Project No. 13143-000; Project No. 13284-000]

NM Hydroelectric Power, LLC, Peterson Machinery Sales, Grand Traverse County and the City of Traverse City, MI; Notice of Competing Preliminary Permit Applications Accepted for Filing and Soliciting Comment, Motions To Intervene, and Competing Applications

November 20, 2008.

NM Hydroelectric Power, LLC (NMHP), Peterson Machinery Sales (PMS) and jointly by Grand Traverse County and the City of Traverse City, Michigan filed applications, pursuant to section 4(f) of the Federal Power Act, proposing to study the feasibility of the Sabin Dam and Boardman River Projects Project, to be located on the Boardman River, in Grand Traverse County, Michigan. The proposed project facilities are owned by Traverse City Light and Power Company.

The proposed Sabin Dam and Boardman River Projects:

The proposed Sabin Dam Project by NM Hydroelectric Power, LLC for Project No. 13129 filed on February 27, 2008 would consist of: (1) The existing 200-foot-long, 20-foot-high earthen Sabin Dam; (2) an existing reservoir having a surface area of 40 acres and a storage capacity of 340 acre-feet and normal water surface elevation of 611.9 feet National Geographic Vertical Datum (NGVD); (3) an existing powerhouse containing one new generating unit having an installed capacity of 500 kilowatts; (4) an existing 7-mile-long, 12.5 kilovolt transmission line; and (5) appurtenant facilities. The proposed Sabin Dam Project would have an average annual generation of 2.58 gigawatt-hours..

The proposed Boardman River Project by Peterson Machinery Sales would consist of the following three developments:

Sabin Dam Development

(1) The existing 200-foot-long, 20-foot-high earthen Sabin Dam; (2) an existing reservoir having a surface area of 40 acres and a storage capacity of 340 acre-feet and normal water surface elevation of 613.5 feet National Geographic Vertical Datum (NGVD); (3) an existing powerhouse containing one new generating unit having an installed capacity of 500 kilowatts; (4) an existing 1,000-foot-long, 13.8 kilovolt transmission line; and (5) appurtenant facilities. The proposed Sabin Dam Development would have an average annual generation of 2.7 gigawatt-hours.

Boardman Dam Development

(1) The existing 650-foot-long, 9-foot-high earthen Boardman Dam; (2) an existing reservoir having a surface area of 103 acres and storage capacity of 1,020 acre-feet and a normal water surface elevation of 659.6 feet NGVD; (3) an existing powerhouse containing one new generating nit having an installed capacity of one megawatt; (4) an existing 500-foot-long, 13.8 kilovolt transmission line; and (5) appurtenant facilities. The proposed Boardman Dam Development would have an average annual generation of 5.5 gigawatt-hours

Brown Bridge Dam Development

(1) The existing 1,600-foot-long, varying in height earth Brown Bridge Dam; (2) an existing reservoir having a surface area of 191 acres having a storage capacity of 1,900 acre-feet and a normal water surface elevation of 797.5 feet NGVD; (3) an existing powerhouse containing two new generating units having a total installed capacity of 675 kilowatts; (4) an existing 2,150-foot-long 13.8 kilovolt transmission line; and (5) appurtenant facilities. The proposed Brown Bridge Dam Development would have an average annual generation of 3 gigawatt-hours.

The proposed Boardman River Project jointly by Grand Traverse County and the City of Traverse City, Michigan would consist of the following three developments:

Sabin Dam Development

(1) The existing 200-foot-long, 20-foot-high earthen Sabin Dam; (2) an existing reservoir having a surface area of 40 acres and a storage capacity of 340 acre-feet and normal water surface elevation of 613.5 feet National Geographic Vertical Datum (NGVD); (3) an existing powerhouse containing one new generating unity having an installed capacity of 500 kilowatts; (4) an existing 1,000-foot-long, 13.8 kilovolt transmission line; and (5) appurtenant facilities. The proposed Sabin Dam Development would have an average annual generation of 2.7 gigawatt-hours.

Boardman Dam Development

(1) The existing 650-foot-long, 9-foot-high earthen Boardman Dam; (2) an existing reservoir having a surface area of 103 acres and storage capacity of 1,020 acre-feet and a normal water surface elevation of 659.6 feet NGVD; (3) an existing powerhouse containing one new generating nit having an installed capacity of one megawatt; (4) an existing 500-foot-long, 13.8 kilovolt transmission line; and (5) appurtenant facilities. The proposed Boardman Dam Development would have an average annual generation of 5.5 gigawatt-hours

Brown Bridge Dam Development

(1) The existing 1,600-foot-long, varying in height earth Brown Bridge Dam; (2) an existing reservoir having a surface area of 191 acres having a storage capacity of 1,900 acre-feet and a normal water surface elevation of 797.5 feet NGVD; (3) an existing powerhouse containing two new generating units having a total installed capacity of 675 kilowatts; (4) an existing 2,150-foot-long 13.8 kilovolt transmission line; and (5) appurtenant facilities. The proposed Brown Bridge Dam Development would have an average annual generation of 3 gigawatt-hours.

Applicants Contact: For NM Hydroelectric Power, LLC: Mr. Timothy Swanson, NM Hydroelectric Power, LLC, 13202 Griffin Run, Carmel, Indiana 46033. (317) 706-1332. For Peterson Machinery Sales: Mr. Charles R. Peterson, Peterson Machinery Sales, 9627 Seth Road, Northport, Michigan, 49670, (231) 386-5724. For Grand Traverse County: Mr. Dennis Aloia, County Administrator, Grand Traverse County, 400 Boardman Avenue, Traverse City, MI 49684, (231) 922-4622. For the City of Traverse City: Mr. R. Ben Bifoss, City Manager, Traverse City, 400 Boardman Avenue, Traverse City, MI 49684, (231) 922-4440.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13129, 13143, or P-13284) in the docket number field to access the document. For assistance, call toll-free 1-866-208-3372.

Kimberly D. Bose,
Secretary.

[FR Doc. E8-28302 Filed 11-28-08; 8:45 am]

BILLING CODE 6717-01-P